DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2019, through October 31, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: November 13, 2019.
Thomas J. Engels,
Administrator.

List of Petitions Filed

1. Nicholas L. Domenico, Baltimore, Maryland, Court of Federal Claims No: 19-1514V

2. Elizabeth Allen-Scott on behalf of V. S., New Albany, Indiana, Court of Federal Claims No: 19-1517V

3. Maryann Daugherty, St. Petersburg, Florida, Court of Federal Claims No: 19-1519V

4. Tasha Long, Elgin, Illinois, Court of Federal Claims No: 19-1522V

5. Amelia Lundy, Lexington, Kentucky, Court of Federal Claims No: 19-1523V

6. Stephanie Laszkow, Lakewood, New Jersey, Court of Federal Claims No: 19-1524V

7. Elizabeth Lucas, Newark, California, Court of Federal Claims No: 19-1525V

8. Mona Borden, Littleton, Colorado, Court of Federal Claims No: 19-1526V

9. Judy Minervini, Orlando, Florida, Court of Federal Claims No: 19-1527V

10. Jane Barcomb, Brattleboro, Vermont, Court of Federal Claims No: 19-1528V

11. Maricella Garcia, Corpus Christi, Texas, Court of Federal Claims No: 19-1529V

12. Larese Dockery on behalf of L. J., Fayetteville, Georgia, Court of Federal Claims No: 19-1530V

13. Crystal Weeks, Haughton, Louisiana, Court of Federal Claims No: 19-1531V

14. Jason Craig Townsend, Goldsboro, North Carolina, Court of Federal Claims No: 19-1532V

15. Russell Ahlgrim, Anaheim, California, Court of Federal Claims No: 19-1533V

16. Christina Mitchell, Greensboro, North Carolina, Court of Federal Claims No: 19-1534V

17. Janet Niemi, Waldorf, Maryland, Court of Federal Claims No: 19-1535V

18. De'Ann Zastrow, Greenville, South Carolina, Court of Federal Claims No: 19-1536V

19. Robert Prude, Fontana, California, Court of Federal Claims No: 19-1537V

20. Jean Clappe-Mixell, Port Charlotte, Florida, Court of Federal Claims No: 19-1538V

21. Jamie Washington, Lafayette, Louisiana, Court of Federal Claims No: 19-1539V

22. Bethany Bunce Cunha, Ellicott City, Maryland, Court of Federal Claims No: 19-1542V

23. Elizabeth Johnson, St. Anthony, Minnesota, Court of Federal Claims No: 19-1543V

24. Mary Lou Dvorak, Richmond, Virginia, Court of Federal Claims No: 19-1544V

25. Mei H. Li, Jacksonville, Florida, Court of Federal Claims No: 19-1545V

26. Laura Lancaster, Rancho Santa Margarita, California, Court of Federal Claims No: 19-1546V

27. Chassie Clemens, Cannon Falls, Minnesota, Court of Federal Claims No: 19-1547V

28. India Washington on behalf of Z. K., Brooklyn, New York, Court of Federal Claims No: 19-1548V

29. Alyson Guerriero, Clark, New Jersey, Court of Federal Claims No: 19-1549V

30. Harris Feldman, Cherry Hill, New Jersey, Court of Federal Claims No: 19-1550V

31. Katherine A. Bray, Minneapolis, Minnesota, Court of Federal Claims No: 19-1551V

32. Beth Dames, East Aurora, New York, Court of Federal Claims No: 19-1552V

33. Zahra Leisi Zarnagh, Plymouth, Michigan, Court of Federal Claims No: 19-1554V

34. Andrew Scarlett and Tamara Dawes on behalf of Estate of Mia Johanna Scarlett, Deceased, Plantation, Florida, Court of Federal Claims No: 19-1555V

35. Sharyn Hall, Melbourne, Florida, Court of Federal Claims No: 19-1556V

36. Jeanee Stokes and Casey Stokes on behalf of O. S., Deceased, Hixson, Tennessee, Court of Federal Claims No: 19-1558V

37. Teresa Pride, Clinton, Tennessee, Court of Federal Claims No: 19-1560V

38. Angela Lloyd, Boston, Massachusetts, Court of Federal Claims No: 19-1562V

39. Mark A. Haynes, Louisville, Kentucky, Court of Federal Claims No: 19-1563V

40. Kimberly Brown, Murfreesboro, Tennessee, Court of Federal Claims No: 19-1564V

41. Angelia Keil, Brandon, Mississippi, Court of Federal Claims No: 19-1566V

42. Renee Orlandi, Harrisburg, Pennsylvania, Court of Federal Claims No: 19-1569V

43. Vanessa Morris, Little Rock, Arkansas, Court of Federal Claims No: 19-1570V

44. Gwenada Malcolm, Houston, Texas, Court of Federal Claims No: 19-1571V

45. Pamela Halbrook, Portland, Oregon, Court of Federal Claims No: 19-1572V

46. Travis Pavlicek on behalf of C. P., Bismarck, North Dakota, Court of Federal Claims No: 19-1573V

47. Joe Granado, Jr., San Jose, California, Court of Federal Claims No: 19-1574V

48. David Spielman, Chicago, Illinois, Court of Federal Claims No: 19-1575V

49. Adam Sulikowski, Burlington, Vermont, Court of Federal Claims No: 19-1577V

50. Michelle Barnett, Columbia, South Carolina, Court of Federal Claims No: 19-1578V

51. Dina Refior, Lexington, Nebraska, Court of Federal Claims No: 19-1579V

52. Hector Davila-Mayorga, Boscobel, Wisconsin, Court of Federal Claims No: 19-1581V

53. Pamela Brackley, Fayetteville, Virginia, Court of Federal Claims No: 19-1582V

54. Paige Martin, Watertown, Massachusetts, Court of Federal Claims No: 19-1584V

55. Carl Jordan, New York, New York, Court of Federal Claims No: 19-1586V

56. Sharon Rogalewski, West Seneca, New York, Court of Federal Claims No: 19-1587V

57. Jordan Hospedales, Parris Island, North Carolina, Court of Federal Claims No: 19-1588V

58. Curtis Scott Turley, Kaysville, Utah, Court of Federal Claims No: 19-1591V

59. Doris Mitchell, Huntersville, North Carolina, Court of Federal Claims No: 19-1593V

60. Heather Middelkoop, Schenectady, New York, Court of Federal Claims No: 19-1595V

61. Sue Ann Rockwell on behalf of L. J. B., New York, New York, Court of Federal Claims No: 19-1597V

62. Kristine Ballard, Tempe, Arizona, Court of Federal Claims No: 19-1600V

63. Silvia Stitt, Leechburg, Pennsylvania, Court of Federal Claims No: 19-1601V

64. David Buckley, Klamath Falls, Oregon, Court of Federal Claims No: 19-1602V

65. Anthony Sherwood, Santa Maria, California, Court of Federal Claims No: 19-1603V

66. Donna J. Moore, Marietta, Ohio, Court of Federal Claims No: 19-1604V

67. Stephen McGeorge, Marietta, Ohio, Court of Federal Claims No: 19-1605V

68. John Newsome, Macon, Georgia, Court of Federal Claims No: 19-1606V

69. Tamara Kundivich, Largo, Florida, Court of Federal Claims No: 19-1609V

70. Meagan Mulcahy, Bristol, Connecticut, Court of Federal Claims No: 19-1611V

71. Nathaniel Ian Brook, Richland, Texas, Court of Federal Claims No: 19-1612V

72. Melissa Heffley, Puyallup, Washington, Court of Federal Claims No: 19-1613V

73. Erica McNamara, Winter Park, Florida, Court of Federal Claims No: 19-1614V

74. Christa Cardenas, Brownsville, Texas, Court of Federal Claims No: 19-1617V

75. David Broniec, Chicago, Illinois, Court of Federal Claims No: 19-1618V

76. Kim B. Rhodes, Montgomery, Alabama, Court of Federal Claims No: 19-1619V

77. Wayne Venable, Lafayette, Louisiana, Court of Federal Claims No: 19-1620V

78. Gary Ward, Lafayette, Colorado, Court of Federal Claims No: 19-1621V

79. Donna R. Rands, Seattle, Washington, Court of Federal Claims No: 19-1622V

80. Timothy Wallace and Jennifer Wallace on behalf of T. W., Brooklyn, New York, Court of Federal Claims No: 19-1623V

81. Jennifer Johnson, Dallas, Texas, Court of Federal Claims No: 19-1625V

82. Armando Castaneda, Boscobel, Wisconsin, Court of Federal Claims No: 19-1627V

83. James Coward, Knoxville, Tennessee, Court of Federal Claims No: 19-1629V

84. Kaylee Nelson, Lexington, South Carolina, Court of Federal Claims No: 19-1630V

85. Lidia Vega, Santa Clara, California, Court of Federal Claims No: 19-1632V

86. Melissa Kirit, Moon Township, Pennsylvania, Court of Federal Claims No: 19-1633V

87. Tatum Brevig, Maple Grove, Minnesota, Court of Federal Claims No: 19-1635V

88. Debra Rose, Springboro, Ohio, Court of Federal Claims No: 19-1639V

89. Denise Bengston, Wichita, Kansas, Court of Federal Claims No: 19-1643V

90. Shannon Cobb, Blue Springs, Missouri, Court of Federal Claims No: 19-1645V

91. Robert Labianco, Virginia Beach, Virginia, Court of Federal Claims No: 19-1646V

92. Tara Hunley, Madera, California, Court of Federal Claims No: 19-1647V

93. Jessica Sandner, Portland, Oregon, Court of Federal Claims No: 19-1648V

94. Teresa Buchanan, Chattanooga, Tennessee, Court of Federal Claims No: 19-1649V

95. Lisa C. Salzer, Salisbury, North Carolina, Court of Federal Claims No: 19-1650V

96. Robert R. Jodoin, Manchester, New Hampshire, Court of Federal Claims No: 19-1651V

97. Janice Byrd, Boston, Massachusetts, Court of Federal Claims No: 19-1655V

98. Janna Glassberg, Boston, Massachusetts, Court of Federal Claims No: 19-1656V

99. Charisse Guasto, Tomah, Wisconsin, Court of Federal Claims No: 19-1658V

100. Jordan Briggs, Richardson, Texas, Court of Federal Claims No: 19-1659V

101. Robert Mele, Washington, Pennsylvania, Court of Federal Claims No: 19-1660V

102. Kimberly Martin, Dallas, Texas, Court of Federal Claims No: 19-1661V

103. Richard Rebeles, Chicago, Illinois, Court of Federal Claims No: 19-1662V

104. Casey Wilson on behalf of C. W., Reno, Nevada, Court of Federal Claims No: 19-1663V

105. Kevin Carasiti, Wading River, New York, Court of Federal Claims No: 19-1664V

106. Jennifer Cortez, San Diego, California, Court of Federal Claims No: 19-1669V

107. Ashley Wirges, Washington, District of Columbia, Court of Federal Claims No: 19-1670V

108. Valerie K. Hester on behalf of The Estate of Marion Hester, Deceased, Durham, North Carolina, Court of Federal Claims No: 19-1671V

109. Susan Fitzgerald, Washington, District of Columbia, Court of Federal Claims No: 19-1673V

110. David Griswold, Mission Hills, California, Court of Federal Claims No: 19-1674V

111. George Girard Hammer, Jeffersontown, Kentucky, Court of Federal Claims No: 19-1675V

112. Gerald Lengkeek, Holland, Michigan, Court of Federal Claims No: 19-1678V

113. Traci Jones, Redlands, California, Court of Federal Claims No: 19-1680V

114. MaryGrace Fagen, Schererville, Indiana, Court of Federal Claims No: 19-1681V

115. Kim Reed, Winfield, Alabama, Court of Federal Claims No: 19-1682V

116. Hanna Reynolds, Davie, Florida, Court of Federal Claims No: 19-1683V

117. Frank Coluccio, Beverly Hills, California, Court of Federal Claims No: 19-1684V

118. Sharon Stephens, Victorville, California, Court of Federal Claims No: 19-1685V

119. Trevor Miller, Allentown, Pennsylvania, Court of Federal Claims No: 19-1686V

120. Lindsay Carlson, Modena, New York, Court of Federal Claims No: 19-1687V

121. Kristin Ivanovski, Hackensack, New Jersey, Court of Federal Claims No: 19-1690V

122. Emily Hirst, Gainesville, Georgia, Court of Federal Claims No: 19-1691V

123. Kristi Napier, New Albany, Indiana, Court of Federal Claims No: 19-1692V

124. Raven Tubbs, Dallas, Texas, Court of Federal Claims No: 19-1693V

125. Jennifer Kohlmeyer, Englewood, New Jersey, Court of Federal Claims No: 19-1694V

126. Kathy J. Stopar, Racine, Wisconsin, Court of Federal Claims No: 19-1695V

127. Nidal Zaidan, Dresher, Pennsylvania, Court of Federal Claims No: 19-1697V

128. Lindsay Ward, Dresher, Pennsylvania, Court of Federal Claims No: 19-1698V

129. Mir Hassan, Bloomingdale, Illinois, Court of Federal Claims No: 19-1699V

[FR Doc. 2019-25099 Filed 11-19-19; 8:45 am]

BILLING CODE 4165-15-P